DEPARTMENT OF DEFENSE

Department of the Navy

Notice of Availability of Record of Decision for the Final Environmental Impact Statement for Land-Water Interface and Service Pier Extension at Naval Base Kitsap Bangor, Kitsap County, Washington

AGENCY: Department of the Navy, DoD.

ACTION: Notice.

SUMMARY: The Department of the Navy (Navy), after carefully weighing the operational and environmental consequences of the proposed action, announces its decision to construct and operate a Land-Water Interface (LWI) in Hood Canal on the waterfront of Naval Base (NAVBASE) Kitsap Bangor, Washington (WA). The Navy will implement LWI Alternative 3, Port Security Barrier Modifications, which is the Preferred Alternative in the Final Environmental Impact Statement (EIS) of July 2016 for LWI and Service Pier Extension (SPE), NAVBASE Kitsap Bangor, WA. LWI Alternative 3 is also the environmentally preferred alternative and will fully meet the Navy's purpose and need to comply with Department of Defense directives to protect Navy TRIDENT submarines from increased and evolving threats; prevent the seizure, damage, or destruction of military assets; enhance security within the Waterfront Restricted Area; and comply with security requirements at NAVBASE Kitsap Bangor. Although the proposed SPE project was addressed in the Final EIS, a Navy decision on that project has been deferred and the details of that project are not discussed further in the Record of Decision (ROD).

SUPPLEMENTARY INFORMATION: The complete text of the ROD is available for public viewing on the project Web site at https://www.nbkeis.com/lwi/Welcome.aspx along with the Final EIS and supporting documents. Single copies of the ROD will be made available upon request by contacting: LWI and SPE EIS Project Manager, Naval Facilities Engineering Command Northwest, 1101 Tautog Circle, Silverdale, WA 98315-1101, 360-396-0029.

Dated: September 8, 2016.
N.A. Hagerty-Ford,
Commander, Judge Advocate General's Corps, U.S. Navy, Federal Register Liaison Officer.

[FR Doc. 2016-22054 Filed 9-13-16; 8:45 am]

BILLING CODE 3810-FF-P